DEPARTMENT OF AGRICULTURE

Forest Service

Boundary Waters Canoe Area Wilderness Fuels Treatment Environmental Impact Statement

AGENCY: Forest Service, USDA

ACTION: Notice of intent to prepare an environmental impact statement.

SUMMARY: On July 4, 1999, heavy rains and straight-line winds in excess of 90 miles per hour blew down approximately 477,000 acres of forest within northeastern Minnesota. The majority of the blown down forest occurs within the Boundary Waters Canoe Area Wilderness (BWCAW) on the Superior National Forest. As a result of the windstorm, down and dead trees and brush (fuels) on approximately 360,000 acres within the wilderness increased from 5 to 20 tons per acre up to 50 to 100 tons per acre. This fuel loading increases the potential for wildfire to move from within the wilderness to adjacent State, County, federal, and private lands and across the Canadian border, and possibly threaten life, property and other resource values. The Department of Agriculture, Forest Service, will prepare an Environmental Impact Statement (EIS) for the BWCAW to develop a site-specific fuels treatment plan to reduce the fire hazard resulting from the blown down forest. This fuels treatment plan may require an amendment or exception to the Superior National Forest Land and Resource Management Plan (Forest Plan) and the BWCAW Management Plan in order to use prescribed fire (fire ignited by management actions to meet specific objectives) within the Wilderness. The purpose of the project is to improve public safety by reducing the potential for high-intensity wildland fires to spread from the BWCAW into areas of intermingled ownership that includes homes, cabins, resorts, and other improvements both in the United States and Canada. This will be accomplished in a manner which is sensitive to ecological and wilderness values, and protects safety of firefighters and BWCAW visitors during implementation. The proposed action is to treat approximately 47,000 to 81,000 acres with prescribed fire over a five to six year time-period. The proposed action would treat approximately 13 to 22 percent of the area blown down in the July 4, 1999 windstorm or four to seven percent of the 1.1 million acre wilderness. Implementation of the proposed action may require the use of mechanized tools within the BWCAW. A range of alternatives responsive to significant issues will be developed, including a no-action alternative. The Record of Decision will disclose whether or not the Forest Service will manage fuels within the BWCAW to improve public safety. If the decision is to use prescribed fire, the decision will include the following:

• The pattern of treatment to be used;

• The priority areas to be treated;

• The approximate timeframe when each area will be treated;

• The minimum action and tools needed within the wilderness to meet management objectives;

• The environmental conditions (e.g., weather conditions) under which areas will be prescribed burned;

• How wilderness and ecological values and other resources will be protected during treatment;

• Surveys and monitoring that will be conducted before, during and after treatments; and

• How decisions will be coordinated with adjacent landowners and how the public will be notified of prescribed burns.

DATES: Public open houses to solicit comments and to answer questions on the proposed action will be held from 3:00 PM to 8:00 PM, CST at the following locations:

• April 10, 2000 at Cook County Community Center, 317 West 5th St., Grand Marais, MN 55604.

• April 11, 2000 at Holiday Inn SunSpree, Ridgeview Room, 400 North Poineer Rd., Ely, MN 55731.

• April 12, 2000 at Radisson Hotel, Great Hall 1, 505 West Superior St., Duluth, MN 55802.

• April 13, 2000 at Country Inn at White Bear Lake, Lambert Room, 4940 Hwy. 61 N., White Bear Lake, MN 55110 (directly north of Minneapolis and St. Paul, MN).

• April 14, 2000 at U.S. Forest Service, LaCroix Ranger District Office, 320 Hwy 53 N., Cook, MN 55723.

Comments concerning the scope of this project should be received by the Superior National Forest by May 1, 2000.

ADDRESSES: Please send written comments to Superior National Forest, BWCAW Fuels Reduction EIS, 8901 Grand Ave. Place, Duluth, MN 55808.

FOR FURTHER INFORMATION CONTACT: James W. Sanders, Forest Supervisor, Superior National Forest, telephone: (218) 626-4300, or Joyce Thompson, BWCAW EIS Team Leader, Superior National Forest, 8901 Grand Ave. Place, Duluth, MN 55808, telephone (218) 626-4317, email: jelmatho/r9_superior@fs.fed.us. A detailed scoping package is available by contacting Joyce Thompson at the address listed above or on the Superior National Forest's website at http://www.fs.fed.us/r9/superior/.

SUPPLEMENTARY INFORMATION: Public participation will be an integral component of the study process, and will be especially important at several points during the analysis. The first is during the scoping process. The Forest Service will be seeking information, comments and assistance from federal, State, County, and local agencies, individuals and organizations that may be interested in or affected by the proposed activities. The scoping process will include: (1) Identification of potential issues, (2) identification of issues to be analyzed in depth, and (3) elimination of insignificant issues or those which have been covered by a previous environmental review. Written scoping comments will be solicited through a scoping package that will be sent to the project mailing list and the local newspaper. For the Forest Service to best use the scoping input, comments should be received by May 1, 2000. Preliminary issues identified for analysis in the EIS include the potential effects and relationship of the project to fire hazard reduction, safety of firefighters and wilderness visitors during implementation, and the impact of the proposed action on wilderness values (including the use of mechanized equipment within the wilderness, ecological conditions, recreation, scenery, air quality, wildlife habitat, riparian areas, heritage resources, sensitive plants and communities, soil productivity, and water quality).

Based on the results of scoping and the resource conditions within the project area, alternatives (including a no-action alternative) will be developed for the draft EIS. The draft EIS is projected to be filed with the Environmental Protection Agency (EPA) in December 2000. The final EIS is anticipated in April 2001.

The comment period on the draft EIS will be 45 days from the date that the EPA publishes the notice of availability in the Federal Register.

At this early stage, the Forest Service believes it is important to give reviewers notice of several court rulings related to public participation in the environmental review process. First, reviewers of draft EIS's must structure their participation in the environmental review of the proposal, so that it is meaningful and alerts an agency to the reviewer's position and contentions. Vermont Yankee Nuclear Power Corp. v. NRDC, 435 U.S. 519, 553 (1978). Also, environmental objections that could have been raised at the draft EIS stage, but that are not raised until the completion of the final EIS, may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period on the draft EIS, so that substantive comments and objections are made available to the Forest Service at a time when they can be meaningfully considered and respond to them in the final EIS.

To assist the Forest Service in identifying and considering issues and concerns of the proposed action, comments on the draft EIS should be as specific as possible. It is also helpful if comments refer to specific pages or chapters of the draft statement. Comments may address the adequacy of the draft EIS, or the merits of the alternatives formulated and discussed in the statement. Reviewers may wish to refer to the Council on Environmental Quality Regulations for implementing the procedural provisions of the National Environmental Policy Act in 40 CFR 1503.3, in addressing these points.

The proposed action is to treat between 47,000 to 81,000 acres of fuels within the BWCAW over a five to six year time-period. The proposed action includes a variety of prescribed burning treatments, including patchwork treatment pattern, fuel patch burns, and understory burns. In areas adjacent to the BWCAW boundary and where fuels are the heaviest, a patchwork pattern of prescribed burns across the landscape would be used. Patchwork pattern treatments would be designed to use natural fire breaks and fit into the natural landscape where possible. A patchwork pattern of fuels treatment would break up fuels so that in the event of a wildfire the rate of spread of the fire would be greatly reduced. Within the patchwork treatment areas, a variety of density of treatments are proposed based upon the risk to health and safety and fuel loads. Between 33,524 to 51,576 acres are proposed for treatment under this pattern.

In areas where isolated stands of trees were blown down, treatment of the individual patches (or fuel patch treatment) would be used. Patch fuel treatments would include burning in isolated patches on the landscape. Between 4,195 to 11,310 acres are proposed for fuel patch treatment.

Understory burns (i.e., burning fuels under the main forest canopy) would be used, where the blowdown is patchy and ecological conditions allow the use of burning the understory to reduce fuel ladders, which in turn reduce the potential of high intensity crown fires. Fuel ladders are young trees and dead and down fuels beneath the tops of older trees. These create a “ladder” for fire to travel from the ground to the forest canopy and burn more intensely. Between 9,180 to 18,360 acres are proposed for a combination of fuel patch treatment and understory burning.

Implementing the proposed prescribed burns may require the use of mechanized equipment within the wilderness. Prior to using any mechnanized equipment a site-specific minimum requirements and tools analysis will be prepared. Possible mechanized and motorized tools that may be used while implementing the prescribed burns include: chainsaws; portable water pumps; and helicopters and fixed wing aircraft for transporting of fire personnel, igniting prescribed burns and dropping water and fire retardant and motor boats on lakes where use is allowed by the public. Aircraft may need to fly below the 4,000 foot limit above sea-level in the BWCAW or land on waterbodies. Nonmotorized and nonmechanized tools that possibly could be used during implementation of the proposed action include: digging and chopping tools (shovel, pulaski, axe, etc.), crosscut saws, drip torch ignition tools and fusees, fireline construction explosives, hoses and hose-fittings, sprinklers, backpack pumps, and non-motorized boats and canoes. Fire camps (camps where fire crews stay during implementation) and fire caches (caches of fire fighting equipment) within the wilderness may need to be used during implementation.

Permits/Authorizations

The proposed action includes prescribed fire in the BWCAW to reduce heavy fuel accumulation. This action may require an amendment or exception to the Forest Plan and the BWCAW Management Plan to use prescribed fire within the BWCAW. U.S.D.A. Forest Service, Eastern Region, may request the project be considered an emergency under CFR 215.10(d)(1) in order to allow for implementation during the appeal period. The use of motorized and mechanized tools were not allowed by the general public and flights below 4,000 feet above sea level on National Forest System lands within the BWCAW would also require approval.

Lead and Cooperating Agencies

The Superior National Forest manages approximately 800,000 acres within the boundaries of the BWCAW. It is the lead agency for preparation of this document. The State of Minnesota manages approximately 279,000 acres wthin the boundaries of the BWCAW. In order to achieve the best arrangement of prescribed burn treatment units to minimize the risk of an escaped wildfire it may be necessary to treat State lands. The Minnesota Department of Natural Resources is a cooperating agency on this project. They will provide direction and approval regarding fuels treatment on State lands.

Responsible Official

James W. Sanders, Forest Supervisor, Superior National Forest, is the responsible official. In making the decision, the responsible official will consider the comments; responses; disclosure of environmental consequences; and applicable laws, regulations, and policies. The responsible official will state the rationale for the chosen alternative in the Record of Decision.

Dated: March 20, 2000.
James W. Sanders,
Forest Supervisor.

[FR Doc. 00-7411 Filed 3-24-00; 8:45 am]

BILLING CODE 3410-11-U